DEPARTMENT OF COMMERCE

National Oceanic and Atmospheric Administration

Agency Information Collection Activities; Submission to the Office of Management and Budget (OMB) for Review and Approval; Comment Request; Pacific Islands Logbook Family of Forms

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on December 14, 2021 (86 FR 71043) during a 60-day comment period. This notice allows for an additional 30 days for public comments.

Agency: NOAA National Marine Fisheries Service (NMFS), Commerce.

Title: Pacific Islands Logbook Family of Forms.

OMB Control Number: 0648-0214.

Form Number(s): None.

Type of Request: Regular Submission (revision of a currently approved collection).

Number of Respondents: 599.

Average Hours per Response: 0.27 hours.

Total Annual Burden Hours: 6,911.

Needs and Uses: Vessel operators or owners in Federally-managed fisheries in the Pacific Islands Region are required to provide certain information about their fishing activities, catch, and interactions with protected species by submitting reports to NMFS, per 50 CFR part 665.14. These data are needed to determine the condition of fish stocks and whether current management measures are having the intended effects, to evaluate the benefits and costs of changes in management measures, and to monitor and respond to accidental takes of endangered and threatened species, including seabirds, sea turtles, and marine mammals.

Longline vessel operators are also required to submit pre-trip notifications, including information on trip type, departure time, and transit through a protected species zone per 50 CFR 665.803. Other fisheries are required to submit notifications of trip return, unloading, or sales reports per regulations in multiple Subparts of 50 CFR 665.

Affected Public: Individuals or households; Business or other for-profit organizations.

Frequency: As required in regulations.

Respondent's Obligation: Mandatory.

Legal Authority: 50 CFR 665.

This information collection request may be viewed at https://www.reginfo.gov/public/. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0214.

Sheleen Dumas,
Department PRA Clearance Officer, Office of the Chief Information Officer, Commerce Department.

[FR Doc. 2022-06135 Filed 3-22-22; 8:45 am]

BILLING CODE 3510-22-P